DEPARTMENT OF COMMERCE

National Oceanic and Atmospheric Administration

[RTID 0648-XF086]

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council's Joint Spiny Dogfish Committee will hold a public meeting.

DATES: The meeting will be held on Tuesday, September 16, 2025, from 2 p.m.-5 p.m. For agenda details, see SUPPLEMENTARY INFORMATION.

ADDRESSES: The meeting will be held via webinar. Connection information will be posted to the Council's calendar prior to the meeting at www.mafmc.org.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council's Joint Spiny Dogfish Committee will meet via webinar on Tuesday, September 16, 2025, from 2 p.m. until 5 p.m. The purpose of this meeting is for the Committee to provide recommendations regarding the framework adjustment action that would modify spiny dogfish fishery accountability measures (including catch overage paybacks) and set upcoming (2026+) specifications. More information on this action is available at https://www.mafmc.org/actions/spiny-dogfish-accountability-measures-fw.

The meeting is physically accessible to people with disabilities. Requests for sign language interpretation or other auxiliary aids should be directed to Shelley Spedden, (302) 526-5251 at least 5 days prior to the meeting date.

Authority: 16 U.S.C. 1801 et seq.

Dated: August 22, 2025.
Rey Israel Marquez,
Acting Deputy Director, Office of Sustainable Fisheries, National Marine Fisheries Service.

[FR Doc. 2025-16359 Filed 8-26-25; 8:45 am]

BILLING CODE 3510-22-P